DEPARTMENT OF ENERGY

Federal Energy Regulatory Commission

[Docket No. CP01-422-005]

Kern River Gas Transmission Company; Notice of Compliance Filing

May 21, 2003.

Take notice that on May 14, 2003, Kern River Gas Transmission Company (Kern River) tendered for filing as part of its FERC Gas Tariff, Second Revised Volume No. 1, 1st Revised Sixth Revised Sheet No. 5-A, to be effective May 1, 2003. Kern River states that the purpose of this filing is to comply with the Commission's April 30, 2003 order in Docket No. CP01-422-004.

Kern River indicates that it is revising the initial incremental rates for its 2003 Expansion Project that are proposed to become effective on May 1, 2003, to reflect the long-term financing of the 2003 Expansion Project.

Kern River states that it has served a copy of this filing upon its customers, interested state regulatory commissions, and intervenors on the official service list for Docket No. CP 01-422.

Any person desiring to protest said filing should file a protest with the Federal Energy Regulatory Commission, 888 First Street, NE., Washington, DC 20426, in accordance with Section 385.211 of the Commission's Rules and Regulations. All such protests must be filed in accordance with section 154.210 of the Commission's Regulations. Protests will be considered by the Commission in determining the appropriate action to be taken, but will not serve to make protestants parties to the proceedings. This filing is available for review at the Commission in the Public Reference Room or may be viewed on the Commission's Web site at http://www.ferc.gov using the “FERRIS” link. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the “e-Filing” link.

Protest Date: May 27, 2003.

Magalie R. Salas,
Secretary.

[FR Doc. 03-13290 Filed 5-28-03; 8:45 am]

BILLING CODE 6717-01-P